DEPARTMENT OF TRANSPORTATION

Federal Motor Carrier Safety Administration

49 CFR Chapter III, Subchapter B

[Docket No. FMCSA-2018-0037]

Safe Integration of Automated Driving Systems-Equipped Commercial Motor Vehicles

AGENCY: Federal Motor Carrier Safety Administration (FMCSA), DOT.

ACTION: Advance notice of proposed rulemaking; extension of comment period.

SUMMARY: The Federal Motor Carrier Safety Administration (FMCSA) extends the comment period for its May 28, 2019, advance notice of proposed rulemaking (ANPRM) and its May 31, 2019 correction notice concerning Federal Motor Carrier Safety Regulations that may need to be amended, revised, or eliminated to facilitate the safe introduction of automated driving systems equipped commercial motor vehicles onto our Nation's roadways. FMCSA received a request for an extension to the comment period from the American Trucking Associations and the U.S. Chamber of Commerce's Technology Engagement Center. The Agency believes it is appropriate to extend the comment period to provide interested parties additional time to submit their responses to the ANPRM. Therefore, the Agency extends the deadline for the submission of comments for 30 days.

DATES: The comment period for the ANPRM published May 28, 2019, at 84 FR 24449, and corrected on May 31, 2019, at 84 FR 25229, is extended by 30 days. Comments must be received on or before August 28, 2019.

ADDRESSES: You may submit comments bearing the Federal Docket Management System (FDMS) Docket ID FMCSA-2018-0037 using any of the following methods:

• Federal eRulemaking Portal: https://www.regulations.gov/docket?D=FMCSA-2018-0037. Follow the online instructions for submitting comments.

• Mail: Docket Management Facility, U.S. Department of Transportation, 1200 New Jersey Avenue SE, West Building, Ground Floor, Room W12-140, Washington, DC 20590-0001.

• Hand Delivery or Courier: West Building, Ground Floor, Room W12-140, 1200 New Jersey Avenue SE, between 9 a.m. and 5 p.m., Monday through Friday, except Federal holidays.

• Fax: (202) 493-2251.

To avoid duplication, please use only one of these four methods. See the “Public Participation” portion of the SUPPLEMENTARY INFORMATION section for instructions on submitting comments.

FOR FURTHER INFORMATION CONTACT: Mr. Michael Huntley, Division Chief, Vehicle and Roadside Operations, Office of Carrier, Driver, and Vehicle Safety, MC-PSV, Federal Motor Carrier Safety Administration, 1200 New Jersey Avenue SE, Washington, DC 20590-0001, michael.huntley@dot.gov, (202) 366-9209. If you have questions on viewing or submitting material to the docket, contact Docket Services, (202) 366-9826.

SUPPLEMENTARY INFORMATION:

I. Public Participation and Request for Comments

A. Submitting Comments

If you submit a comment, please include the docket number for this ANPRM (Docket No. FMCSA-2018-0037), indicate the specific section of the ANPRM to which each comment applies, and provide a reason for each suggestion or recommendation. You may submit your comments and material online or by fax, mail, or hand delivery, but please use only one of these means. FMCSA recommends that you include your name and a mailing address, an email address, or a phone number in the body of your document so that FMCSA can contact you if there are questions regarding your submission. To submit your comment online, go to https://www.regulations.gov/docket?D=FMCSA-2018-0037. Click on the “Comment Now!” button and type your comment into the text box on the following screen. Choose whether you are submitting your comment as an individual or on behalf of a third party and then submit.

If you submit your comments by mail or hand delivery, submit them in an unbound format, no larger than 8½ by 11 inches, suitable for copying and electronic filing. If you submit comments by mail and would like to know that they reached the facility, please enclose a stamped, self-addressed postcard or envelope.

FMCSA will consider all comments and material received during the comment period.

B. Viewing Documents and Comments

To view comments, as well as any documents mentioned in the ANPRM as being available in the docket, go to https://www.regulations.gov/docket?D=FMCSA-2018-0037 and choose the document to review. If you do not have access to the internet, you may view the docket online by visiting the Docket Management Facility in Room W12-140 on the ground floor of the DOT West Building, 1200 New Jersey Avenue SE, Washington, DC 20590, between 9 a.m. and 5 p.m., ET, Monday through Friday, except Federal holidays.

C. Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

II. Background

The May 2019 ANPRM (84 FR 24449) requested public comment on 10 subject areas: Whether the FMCSRs require a human driver; commercial driver's license endorsements; drivers' hours of service rules; medical qualifications for human operators; distracted driving and monitoring; safe driving and drug and alcohol testing; inspection, repair, and maintenance; roadside inspections; cybersecurity; and confidentiality of shared information.

The comment period for the ANPRM was set to expire on July 29, 2019. FMCSA received a request to extend the comment period from the American Trucking Associations and the U.S. Chamber of Commerce's Technology Engagement Center. A copy of the request, which was not filed in the docket, has been placed in the docket for this rulemaking.

ATA and C_TEC requested a 30-day extension of the comment period, stating that the additional time was needed to coordinate with and gather information from members and more usefully respond to the detailed questions posed in the ANPRM.

FMCSA believes that other potential commenters to this ANPRM will benefit from an extension as well. Accordingly, FMCSA extends the comment period for all comments on the ANPRM to August 28, 2019.

Issued under authority delegated in 49 CFR 1.87.

Larry W. Minor,
Associate Administrator for Policy.

[FR Doc. 2019-16331 Filed 7-26-19; 4:15 pm]

BILLING CODE 4910-EX-P